DEPARTMENT OF HOMELAND SECURITY

Coast Guard

[Docket No. USCG-2024-0783]

Area Maritime Security Advisory Committee for Gulf of Mexico

AGENCY: Coast Guard, DHS.

ACTION: Solicitation for membership.

SUMMARY: The Coast Guard requests individuals interested in serving on the Gulf of Mexico Area Maritime Security Advisory Committee (AMSC) Executive Steering Committee submit their applications for membership to the Federal Maritime Security Coordinator (FMSC), Eighth Coast Guard District.

DATES: Requests for membership should reach the Eighth Coast Guard District by November 30, 2024.

ADDRESSES: Applications for membership should be submitted to the FMSC at the following address: Commander, Eighth Coast Guard District, Attn: Mr. Nick Alphonso, Gulf of Mexico AMSC Executive Secretary, Hale Boggs Federal Building, 500 Poydras St., Suite 1341, New Orleans, LA 70130. Applications can also be emailed to: Nicholas.J.Alphonso2@uscg.mil.

FOR FURTHER INFORMATION CONTACT: For questions about applying or about the AMSC Executive Steering Committee in general, contact Mr. Nick Alphonso, Gulf of Mexico AMSC Executive Secretary, Phone: (504) 671-2267, Nicholas.J.Alphonso@uscg.mil.

SUPPLEMENTARY INFORMATION:

I. Authority

Section 102 of the Maritime Transportation Security Act (MTSA) of 2002 (Pub. L. 107-295, 116 Stat. 2064) added section 70112 to Title 46 of the U.S. Code, and authorized the Secretary of the Department in which the Coast Guard is operating to establish Area Maritime Security Advisory Committees for any port area of the United States. (See 33 U.S.C. 1226; 46 U.S.C. 70112; 33 CFR 1.05-1, 6.01; Department of Homeland Security Delegation No. 00170.1(II)(71), Revision No. 01.4). The MTSA includes a provision exempting these AMSCs from the Federal Advisory Committee Act, (Pub. L. 117-286, 5 U.S.C., ch. 10). The AMSCs assist the FMSC in the development, review, updating, and exercising of the Area Maritime Security Plan for their area of responsibility. Such matters may include, but are not limited to: identifying critical port infrastructure and operations; identifying risks (threats, vulnerabilities, and consequences); determining mitigation strategies and implementation methods; Developing strategies to facilitate the recovery of the Maritime Transportation System after a Transportation Security Incident; developing and describing the process to continually evaluate overall port security by considering consequences and vulnerabilities, how they may change over time, and what additional mitigation strategies can be applied; and providing advice to, and assisting the FMSC in developing and maintaining the AMSP.

II. AMSC Composition

The composition of an AMSC Executive Steering Committee is prescribed under 33 CFR 103.305. Pursuant to that regulation, members may be selected from the Federal, Territorial, or Tribal government; the State government and political subdivisions of the State; local public safety, crisis management, and emergency response agencies; law enforcement and security organizations; maritime industry, including labor; other port stakeholders having a special competence in maritime security; and port stakeholders affected by security practices and policies. Members of the AMSC should have at least five years of experience related to maritime or port security operations.

III. AMSC Membership

The Gulf of Mexico AMSC Executive Steering Committee currently has 6 members. We are seeking to add 10 to 15 members with this solicitation. Applicants may be required to pass an appropriate security background check prior to appointment to the committee. Members' terms of office will be for five years; however, a member is eligible to serve additional terms of office. Members will not receive any salary or other compensation for their service on the AMSC.

IV. Request for Applications

Those seeking membership are not required to submit formal applications to the local FMSC; However, because the Gulf of Mexico AMSC Executive Steering Committee does have an obligation to ensure that a specific number of members have the prerequisite maritime security experience, the submission of resumes highlighting experience in the maritime and security industries is encouraged.

The Coast Guard does not discriminate in selection of Area Maritime Security Advisory Committee members on the basis of race, color, religion, sex, national origin, political affiliation, sexual orientation, gender identity, marital status, disability and genetic information, age, membership in an employee organization, or other non-merit factor. The Coast Guard strives to achieve a widely diverse candidate pool for all of its recruitment actions.

Dated: October 11, 2024.
D.C. Barata,
Rear Admiral, U.S. Coast Guard, Federal Maritime Security Coordinator Gulf of Mexico.

[FR Doc. 2024-24164 Filed 10-17-24; 8:45 am]

BILLING CODE 9110-04-P